ENVIRONMENTAL PROTECTION AGENCY

[FRL-6918-7; MM-HQ-2001-0005]

Clean Water Act Class II: Proposed Administrative Settlement, Penalty Assessment and Opportunity To Comment Regarding Saputo Cheese USA, Inc.

AGENCY: Environmental Protection Agency (EPA).

ACTION: Notice.

SUMMARY: EPA has entered into a consent agreement with Saputo Cheese USA, Inc. to resolve violations of the Clean Water Act (“CWA”), and its implementing regulations. Saputo Cheese USA, Inc. failed to prepare Spill Prevention Control and Countermeasure (“SPCC”) plans for four facilities where they stored diesel oil in above ground tanks and failed to prepare and implement Storm Water Pollution Prevention Plans (“SWPPP”) as required by its National Pollutant Discharge Elimination System (NPDES) permit for ten facilities. EPA, as authorized by CWA section 311(b)(6), 33 U.S.C. 1321(b)(6), and CWA section 309(g), 33 U.S.C. 1319(g) has assessed a civil penalty for these violations. The Administrator, as required by CWA section 311(b)(6)(C), 33 U.S.C. 1321(b)(6)(C), and CWA section 309(g)(4)(A), 33 U.S.C. 1319(g)(4)(A), is hereby providing public notice of, and an opportunity for interested persons to comment on, this consent agreement and proposed final order.

DATES: Comments are due on or before January 18, 2001.

ADDRESSES: Mail written comments to the Enforcement & Compliance Docket and Information Center (2201A), Docket Number EC-2000-013, Office of Enforcement and Compliance Assurance, U.S. Environmental Protection Agency, 1200 Pennsylvania Avenue, NW, Mail Code 2201A, Washington, DC 20460. (Comments may be submitted on disk in WordPerfect 8.0 or earlier versions.) Written comments may be delivered in person to: Enforcement and Compliance Docket Information Center, U.S. Environmental Protection Agency, Rm. 4033, Ariel Rios Bldg., 1200 Pennsylvania Avenue, NW., Washington, DC. Submit comments electronically to docket.oeca@epa.gov. Electronic comments may be filed online at many Federal Depository Libraries.

The consent agreement, the proposed final order, and public comments, if any, may be reviewed at the Enforcement and Compliance Docket Information Center, U.S. Environmental Protection Agency, Rm. 4033, Ariel Rios Bldg., 1200 Pennsylvania Avenue, NW., Washington, DC. Persons interested in reviewing these materials must make arrangements in advance by calling the docket clerk at 202-564-2614. A reasonable fee may be charged by EPA for copying docket materials.

FOR FURTHER INFORMATION CONTACT: Beth Cavalier, Multimedia Enforcement Division (2248-A), U.S. Environmental Protection Agency, 1200 Pennsylvania Avenue, NW., Washington, DC 20460; telephone (202) 564-3271; fax: (202) 564-9001; e-mail: cavalier.beth@epa.gov.

SUPPLEMENTARY INFORMATION: Electronic Copies: Electronic copies of this document are available from the EPA Home Page under the link “Laws and Regulations” at the Federal Register—Environmental Documents entry (http://www.epa.gov/fedrgstr).

I. Background

Saputo Cheese USA, Inc., a cheese manufacturing company incorporated in the State of Delaware and located at 25 Tri-State International Office Center, Suite 250, Lincolnshire, Illinois 60069 failed to prepare SPCC plans for four facilities. Saputo Cheese USA, Inc. disclosed, pursuant to the EPA “Incentives for Self-Policing: Discovery, Disclosure, Correction and Prevention of Violations' (“Audit Policy”), 60 FR 66,706 (December 22, 1995), that it failed to prepare SPCC plans for four facilities where it stored diesel oil in above ground storage tanks, in violation of the CWA section 311(b)(3) and 40 CFR Part 112, and that it failed to prepare and implement SWPPP plans for ten facilities, in violation of the CWA section 301(a) and 40 CFR Part 122, and CWA section 402(a) and 40 CFR Parts 122.1 and 122.26. EPA determined that Saputo met the criteria set out in the Audit Policy for a 100% waiver of the gravity component of the penalty. As a result, EPA waived the gravity based penalty ($58,825.00) and proposed a settlement penalty amount of nine thousand and eight hundred dollars ($9,800.00). This is the amount of the economic benefit gained by Saputo, attributable to their delayed compliance with the SPCC and NPDES/SWPPP regulations. Saputo Cheese USA, Inc. has agreed to pay this amount in civil penalties. EPA and Saputo negotiated and signed an administrative consent agreement, following the Consolidated Rules of Procedure, 40 CFR section 22.13, on November 21, 2000 (In Re: Saputo Cheese USA, Inc., Docket No. MM-HQ-2001-005). This consent agreement is subject to public notice and comment under CWA section 311(b)(6), 33 U.S.C. section 1321(b)(6) and CWA section 309(g)(4)(A), 33 U.S.C. 1319(g)(4)(A).

Under CWA section 311(b)(6)(A), 33 U.S.C. 1321 (b)(6)(A), any owner, operator, or person in charge of a vessel, onshore facility, or offshore facility from which oil is discharged in violation of the CWA section 311(b)(3), 33 U.S.C. 1321(b)(3), or who fails or refuses to comply with any regulations that have been issued under CWA section 311(j), 33 U.S.C. 1321(j), may be assessed an administrative civil penalty of up to $137,500 by EPA. Class II proceedings under CWA section 311(b)(6) are conducted in accordance with 40 CFR Part 22.

Under CWA section 309(g)(1)(A), 33 U.S.C. 1319 (g)(1)(A), any person found in violation of any permit condition or limitation implementing any of such sections in a permit issued under the CWA section 402(a), 33 U.S.C. 1342, or the CWA section 301(a), 33 U.S.C. 1311(a), may be assessed an administrative civil penalty of up to $125,000 by EPA. Class II proceedings under CWA section 309(g)(1)(A) are conducted in accordance with 40 CFR Part 22.

The procedures by which the public may comment on a proposed Class II penalty order, or participate in a Clean Water Act Class II penalty proceeding, are set forth in 40 CFR 22.45. The deadline for submitting public comment on this proposed final order is January 18, 2001. All comments will be transferred to the Environmental Appeals Board (“EAB”) of EPA for consideration. The powers and duties of the EAB are outlined in 40 CFR 22.04(a).

Pursuant to CWA section 311(b)(6)(C) and CWA section 309(g)(4)(A), EPA will not issue an order in this proceeding prior to the close of the public comment period.

List of Subjects

Environmental protection.

Dated: December 12, 2000.
David A. Nielsen,
Director Multimedia Enforcement Division, Office of Enforcement and Compliance Assurance.

[FR Doc. 00-32242 Filed 12-18-00; 8:45 am]

BILLING CODE 6560-50-P